EQUAL EMPLOYMENT OPPORTUNITY COMMISSION

[Docket No. EEOC-2022-0004]

Notice of Availability and Request for Comment: EEOC's Draft Strategic Plan 2022-2026

AGENCY: Equal Employment Opportunity Commission.

ACTION: Notice of availability and request for comment.

SUMMARY: The Equal Employment Opportunity Commission (“EEOC” or “Commission”) is announcing the availability of its Draft Strategic Plan for Fiscal Years 2022-26 for public comment.

DATES: Comments must be received on or before December 5, 2022.

ADDRESSES: You may submit written comments through the Federal eRulemaking Portal: https://www.regulations.gov. Follow the instructions for submitting comments.

Instructions: All comments received must include the agency name and docket number EEOC-2022-0004. All comments received will be posted without change to http://www.regulations.gov, including any personal information provided. However, the EEOC reserves the right to refrain from posting libelous or otherwise inappropriate comments, including those that contain obscene, indecent, or profane language; that contain threats or defamatory statements; that contain hate speech directed at race, color, sex, national origin, age, religion, disability, or genetic information; or that promote or endorse services or products.

FOR FURTHER INFORMATION CONTACT: Shelley Kahn, Acting Executive Officer, Executive Secretariat, 202-921-306, shelley.kahn@eeoc.gov.

SUPPLEMENTARY INFORMATION: Background: The EEOC is seeking public comments on its Draft Strategic Plan for Fiscal Years 2022-2026 (Draft Strategic Plan). The Draft Strategic Plan establishes a framework for achieving the EEOC's mission to “prevent and remedy unlawful discrimination and enforce civil rights in the workplace,” so that the nation might realize the Commission's vision of “fair and inclusive workplaces with equal opportunity for all.” The Draft Strategic Plan includes the following strategic goals and objectives:

1. Combat and prevent employment discrimination through the strategic application of the EEOC's law enforcement authorities;

2. Prevent employment discrimination and advance equal employment opportunities through education and outreach;

3. Strive for organizational excellence through our people, practices, and technology.

The Draft Strategic Plan also presents clear and realistic strategies for achieving each of the three strategic goals and identifies performance measures to track the EEOC's progress as it approaches FY 2026.

The Draft Strategic Plan serves as a draft of the Commission's intended Strategic Plan for 2022-2026. The Commission seeks comments on all aspects of this Draft Strategic Plan. The Draft Strategic Plan is available for viewing at https://www.regulations.gov under docket number EEOC-2022-0004, “Supporting and Related Material.” Please provide comments as directed in the ADDRESSES section of this notice.

Cynthia Pierre,
Chief Operating Officer, Equal Employment Opportunity Commission.

[FR Doc. 2022-24972 Filed 11-15-22; 8:45 am]

BILLING CODE P